NATIONAL AERONAUTICS AND SPACE ADMINISTRATION

[Notice 09-013]

Notice of Intent To Grant Partially Exclusive License

AGENCY: National Aeronautics and Space Administration.

ACTION: Notice of Intent to Grant a Partially Exclusive License.

SUMMARY: This notice is issued in accordance with 35 U.S.C. 209(c)(1) and 37 CFR 404.7(a)(1)(i). NASA hereby gives notice of its intent to grant a partially exclusive license to practice the inventions described and claimed in NASA Case Numbers LAR-15318-1 entitled “Apparatus And Method For Measuring Strain In Bragg Gratings,” U.S. Patent Number 5,798,521; LAR-15508-1 entitled “Apparatus and Method for Measuring Strain in Optical Fibers Using Rayleigh Scatter,” U.S. Patent Number 6,545,760; LAR-15934-1 entitled “Edge Triggered Apparatus and Method for Measuring Strain In Bragg Gratings,” U.S. Patent Number 6,566,648; LAR-16005-1 entitled “High Precision Wavelength Monitor For Tunable Laser Systems,” U.S. Patent Number 6,426,496; LAR-16005-1-EP entitled “High Precision Solid State Wavelength Monitor for Tunable Laser Systems,” Foreign Patent Number EP1311814B1; and LAR-16005-1-CA entitled “High Precision Solid State Wavelength Monitor for Tunable Laser Systems,” Foreign Patent Application Serial Number 2,420,299 to Luna Innovations Incorporated having its principal place of business in Roanoke, Virginia. The field of use may be limited to shape sensing in medical robotics. The patent rights have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 141, Hampton, VA 23681; (757) 864-9260 (phone), (757) 864-9190 (fax).

FOR FURTHER INFORMATION CONTACT: Robin W. Edwards, Patent Attorney, Office of Chief Counsel, NASA Langley Research Center, MS 141, Hampton, VA 23681; (757) 864-3230; Fax: (757) 864-9190. Information about other NASA inventions available for licensing can be found online at http://technology.nasa.gov/.

Dated: February 19, 2009.
Richard W. Sherman,
Deputy General Counsel.

[FR Doc. E9-4076 Filed 2-25-09; 8:45 am]

BILLING CODE 7510-13-P